DEPARTMENT OF COMMERCE

Membership of the Departmental Performance Review Board

AGENCY: Department of Commerce.

ACTION: Notice of membership of Department Performance Review Board.

SUMMARY: In accordance with 5 U.S.C. 4314(c)(4), the Department of Commerce announces the appointment of persons to serve as members of the Department Performance Review Board (DPRB). The DPRB is responsible for reviewing performance appraisals and ratings of Senior Executive Service (SES) members and serves as the higher level review for executives who report to an appointing authority. Such reviews are conducted only at the executive's request. The appointment of these members to the DPRB will be for a period of 24 months.

EFFECTIVE DATE: The effective date of service of appointees to the DPRB is October 1, 2000.

FOR FURTHER INFORMATION CONTACT: Deborah Jefferson, Director, Office of Executive Resources, Office of Human Resources Management, Office of the Director, 14th and Constitution Avenue, NW., Washington, DC 20230, (202) 482-8075.

SUPPLEMENTARY INFORMATION: The names and position titles of the members of the DPRB are set forth below by organization:

Chief of Staff and Chief Financial Officer and Assistant Secretary for Administration

Roger W. Baker, Chief Information Officer

John S. Gray, III, Director, Office of Business Liaison

K. David Holmes, Jr., Deputy Assistant Secretary for Security

Raul Perea-Henze, Deputy Assistant Secretary for Administration

General Counsel

Barbara S. Fredericks, Assistant General Counsel for Administration

Mary M. Street, Deputy General Counsel

Economics and Statistics Administration (ESA)

James L. Price, Deputy Under Secretary for Economic Affairs

James K. White, Under Secretary for Management

William G. Barron, Jr., Deputy Director, Bureau of the Census

Marvin D. Raines, Associate Director for Field Operations, Bureau of the Census

J. Steven Landefeld, Director of Bureau of Economic Analysis

Cynthia Z. F. Clark, Associate Director for Methodology and Standards, Bureau of the Census

National Telecommunications and Information Administration

Bernadette McGuire-Rivera, Associate Administrator for Telecommunications and Information Applications

John F. Sopko, Deputy Assistant Secretary for Administration

International Trade Administration

Jonathan C. Menes, Director, Office of Trade and Economic Analysis, Trade Development

Susan H. Kuhbach, Senior Director, Import Administration

Stephen P. Jacobs, Deputy Assistant Secretary for Agreements Compliance, Market Access and Compliance

Elizabeth Sears, Deputy Assistant Secretary, U.S. & Foreign Commercial Service

Linda Cheatham, Chief Financial Officer and Director of Administration

Leslie R. Doggett, Deputy Assistant Secretary for Tourism Industries, Trade Development

Edward J. Casselle, Deputy Assistant Secretary for Africa, Market Access and Compliance

National Oceanic and Atmospheric Administration

Susan B. Fruchter, Counselor to the Under Secretary; Director, Office of Policy and Strategic Planning

William B. Wheler, Director, Office of Legislative Affairs

Penelope D. Dalton, Assistant Administrator, National Marine Fisheries Service

Rear Admiral Evelyn J. Fields, Director, Office of Marine and Aviation Operations; Director, NOAA Commissioned Corps

John Jones, Deputy Assistant Administrator, National Weather Service

Stewart S. Remer, Deputy Chief Administrative Officer, Office of Finance and Administration

Mary Glackin, Deputy Assistant Administrator, National Environmental Satellite and Data Information Service

Bureau of Export Administration

Eileen M. Albanese, Director, Office of Exporter Services

Steven Goldman, Director, Office of Chemical and Biological Controls and Treaty Compliance

Dexter M. Price, Director, Office of Antiboycott Compliance

Dated: October 3, 2000.
Deborah Jefferson,
Executive Secretary, DPRB.

[FR Doc. 00-26806 Filed 10-18-00; 8:45 am]

BILLING CODE 3510-BS-M